NUCLEAR REGULATORY COMMISSION

[Docket No. 40-8027-MLA-8 and ASLBP No. 04-818-03-MLA]

Sequoyah Fuels Corporation; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding: Sequoyah Fuels Corporation, Gore, Oklahoma (Materials License Amendment).

The hearing will be conducted pursuant to 10 CFR part 2, subpart L, of the Commission's Regulations, “Informal Hearing Procedures for Adjudications in Materials and Operator Licensing Proceedings.” This proceeding concerns requests for hearing submitted (1) on September 29, 2003, by the State of Oklahoma; and (2) on October 2, 2003, by the Cherokee Nation and represented citizens. The requests were filed in response to an August 15, 2003 notice of receipt of a June 12, 2003 amendment request from Sequoyah Fuels Corporation (SFC) to approve a ground water monitoring plan at its Gore, Oklahoma facility site, and of opportunity for a hearing, which was published in the Federal Register on August 25, 2003 (68 FR 51,034).¹

¹ The petitioners' hearing requests also reference another SFC license amendment request regarding a ground water corrective action plan for the Gore facility, which likewise is the subject of a Presiding Officer designation issued this date.

The Presiding Officer in this proceeding is Administrative Judge Alan S. Rosenthal. Pursuant to the provisions of 10 CFR 2.722, 2.1209, Administrative Judge Anthony J. Baratta has been appointed to assist the Presiding Officer in taking evidence and in preparing a suitable record for review.

All correspondence, documents, and other materials shall be filed with Judges Rosenthal and Baratta in accordance with 10 CFR 2.1203. Their addresses are:

Alan S. Rosenthal, Administrative Judge, Presiding Officer, Atomic Safety and Licensing Board Panel, U.S. Nuclear Regulatory Commission, Washington, DC 20555-0001.

Dr. Anthony J. Baratta, Administrative Judge, Special Assistant, Atomic Safety and Licensing Board Panel, U.S. Nuclear Regulatory Commission, Washington, DC 20555-0001.

Issued at Rockville, Maryland, this 17th day of October 2003.
G. Paul Bollwerk,
Chief Administrative Judge, Atomic Safety and Licensing Board Panel.

[FR Doc. 03-26727 Filed 10-22-03; 8:45 am]

BILLING CODE 7590-01-P